CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the development of its Disaster Response Cooperative Agreement applications. These applications are used by current grantees to participate in FEMA Mission Assigned disaster activities and receive reimbursement for expenses accrued while on assignment.

Copies of the information collection requests can be obtained by contacting the office listed in the addresses section of this notice.

DATES: Written comments must be submitted to the individual and office listed in the ADDRESSES section by April 14, 2008.

ADDRESSES: You may submit comments, identified by the title of the information collection activity, by any of the following methods:

(1) By mail sent to: Corporation for National and Community Service, Office of Emergency Management; Attention: Phil Shaw, Emergency Management Coordinator, 1201 New York Avenue, NW., 9th Floor, Washington, DC 20525.

(2) By hand delivery or by courier to the Corporation's mailroom at Room 8100 at the mail address given in paragraph (1) above, between 9 a.m. and 4 p.m. Monday through Friday, except Federal holidays.

(3) By fax to: (202) 606-3477, Attention Phil Shaw, Emergency Management Coordinator.

(4) Electronically through the Corporation's e-mail address system: pshaw@cns.gov.

FOR FURTHER INFORMATION CONTACT: Phil Shaw, (202) 606-6697, or by e-mail at pshaw@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Background

The Disaster Response Cooperative Agreement allows an existing Corporation grantee to establish a legal framework with the Corporation to support disaster response activities assigned by a FEMA Mission Assignment. Programs operating under a Cooperative Agreement can receive reimbursement of expenses accrued while on disaster assignment.

Current Action

The Corporation seeks to develop a new Disaster Response Cooperative Agreement (DRCA) Application. When developed, the application will revise/clarify the application review and clearance process. It will also expand data collection to support enhanced asset mapping efforts.

Currently, DRCAs are solicited through the SF-424 Application for Federal Assistance. The Corporation also seeks to continue using the current application until the new application is approved by OMB. The current application is due to expire on August 31, 2008.

Type of Review: New Collection.

Agency: Corporation for National and Community Service.

Title: Disaster Response Cooperative Agreement Application.

OMB Number: None.

Frequency: Annual.

Affected Public: Existing CNCS Grantees.

Number of Respondents: 100.

Estimated Time Per Respondent: Average 2 hours.

Total Burden Hours: 200 hours.

Total Burden Cost (capital/startup): None.

Total Annual Cost (operating/maintaining systems or purchasing services): None.

Comments submitted in response to this notice will be summarized and/or included in the request for Office of Management and Budget approval of the information collection request; they will also become a matter of public record.

Dated: February 4, 2008.
Merlene Mazyck,
Director, AmeriCorps*NCCC.

[FR Doc. E8-2473 Filed 2-11-08; 8:45 am]

BILLING CODE 6050-$$-P